DEPARTMENT OF COMMERCE

International Trade Administration

[C-570-913]

Certain New Pneumatic Off-The-Road Tires From the People's Republic of China: Notice of Correction to the Rescission of the 2012 Countervailing Duty Administrative Review

AGENCY: Enforcement and Compliance, Formerly Import Administration, International Trade Administration, Department of Commerce.

DATES: Effective Date: February 3, 2014.

FOR FURTHER INFORMATION CONTACT: David Lindgren, Enforcement and Compliance, AD/CVD Operations, Office VII, International Trade Administration, U.S. Department of Commerce, 14th Street and Constitution Avenue NW., Washington, DC 20230; telephone: (202) 482-3870.

SUPPLEMENTARY INFORMATION: On January 17, 2014, the Department of Commerce published the rescission of the 2012 administrative review of the countervailing duty order on certain new pneumatic off-the-road tires from the People's Republic of China.¹ Subsequent to publication, we identified an inadvertent error with the Rescission. Specifically, the Rescission incorrectly listed the period of review (POR) as January 1, 2012, through December 31, 2013. The correct POR is January 1, 2012, through December 31, 2012.

¹ See Certain New Pneumatic Off-The-Road Tires from the People's Republic of China: Rescission of Countervailing Duty Administrative Review; 2012, 79 FR 3177 (January 17, 2014) (Rescission).

This notice serves as a correction.

Dated: January 27, 2014.
Christian Marsh,
Deputy Assistant Secretary for Antidumping and Countervailing Duty Operations.

[FR Doc. 2014-02221 Filed 1-31-14; 8:45 am]

BILLING CODE 3510-DS-P